DEPARTMENT OF AGRICULTURE

Animal and Plant Health Inspection Service

9 CFR Part 77

[Docket No. 99-038-5]

Tuberculosis in Cattle, Bison, and Captive Cervids; State and Zone Designations

Correction

In rule document 00-27054 beginning on page 63502 in the issue of Monday, October 23, 2000, make the following correction:

§77.11 [Corrected]

On page 63521, in the second column, in §77.11(a), in the second line, “None.” should read “Michigan.”

[FR Doc. C0-27054 Filed 10-26-00; 8:45 am]

BILLING CODE 1505-01-D

DEPARTMENT OF DEFENSE

Department of the Army

Availability of the Revised Draft Environmental Impact Statement (DEIS) for the Proposed Sauquoit Creek Flood Control Project at Whitesboro, NY

Correction

In notice document 00-27068 appearing on page 63064 in the issue of Friday, October 20, 2000, make the following corrections:

1. On page 63064, in the first column, in the last line, “(202) 264-1060” should read “(212) 264-1060”.

2. On the same page, in the second column, in the second line, “(202) 264-9846” should read “(212) 264-9846”.

[FR Doc. C0-27068 Filed 10-24-00; 8:45 am]

BILLING CODE 1505-01-D

ENVIRONMENTAL PROTECTION AGENCY

40 CFR Parts 141 and 142

[WH-FRL-6888-8]

RIN 2040-AB75

National Primary Drinking Water Regulations; Arsenic and Clarifications to Compliance and New Source Contaminants Monitoring

Correction

In proposed rule document 00-27034 beginning on page 63027 in the issue of Friday, October 20, 2000, make the following corrections:

1. On page 63032, in Table 4, in the last line of the table's third column, “1.01 x 10−5” should read “1.01 x 10−4”.

2. On the same page, in the same table, in the last line of the table's fourth column, “1.06 x 10−5” should read “1.06 x 10−4”.

[FR Doc. C0-27034 Filed 10-26-00; 8:45 am]

BILLING CODE 1505-01-D